ENVIRONMENTAL PROTECTION AGENCY

[ER-FRL-8993-9]

Environmental Impacts Statements; Notice of Availability

Responsible Agency: Office of Federal Activities, General Information (202) 564-1399 or http://www.epa.gov/compliance/nepa/.

Weekly receipt of Environmental Impact Statements.

Filed 11/22/2010 through 11/26/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100455, Final EIS, BLM, NV, ON Line Project, (Previously Known as Ely Energy Center) Proposed 236-mile long 500 kV Electric Transmission Line from a new substation near Ely, Nevada approximately 236 mile south to the existing Harry Allen substation near Las Vegas, Clark, Lincoln, Nye and White Pine Counties, NV, Wait Period Ends: 01/03/2011, Contact: Michael Dwyer 775-293-0523.

EIS No. 20100456, Draft EIS, FTA, OR, Lake Oswego to Portland Transit Project, To Improve Transit Service with the Lake Oswego to Portland Transit Corridor, Clackamas and Multnomah Counties, OR, Comment Period Ends: 01/31/2011, Contact: John Witmer 206-220-7950.

EIS No. 20100457, Final EIS, NPS, FL, Big Cyress National Preserve Addition, General Management Plan/Wilderness Study/Off-Road Vehicle Management Plan, Implementation, Collier County, FL, Wait Period Ends: 01/03/2011, Contact: Pedro Ramos 239-695-1101.

Dated: November 30, 2010.
Robert W. Hargrove,
Director, NEPA Compliance Division, Office of Federal Activities.

[FR Doc. 2010-30415 Filed 12-3-10; 8:45 am]

BILLING CODE 6560-50-P